GENERAL SERVICES ADMINISTRATION

[Notice-MK-2013-12; Docket No. 2013-0002; Sequence No. 38]

The President's Management Advisory Board (PMAB); Notification of Upcoming Public Advisory Meeting

AGENCY: Office of Executive Councils, U.S. General Services Administration (GSA).

ACTION: Meeting Notice.

SUMMARY: The President's Management Advisory Board (PMAB), a Federal Advisory Committee established in accordance with the Federal Advisory Committee Act (FACA), 5 U.S.C., App., and Executive Order 13538, will hold a public teleconference meeting on Thursday, December 19, 2013.

DATES: The meeting will be held on Thursday, December 19, 2013, beginning at 3:00 p.m. eastern time, ending no later than 4:30 p.m.

FOR FURTHER INFORMATION CONTACT: Mr. Stephen Brockelman, Designated Federal Officer, President's Management Advisory Board, Office of Executive Councils, General Services Administration, 1800 F Street NW., Washington, DC 20006, at stephen.brockelman@gsa.gov.

SUPPLEMENTARY INFORMATION:

Background: The PMAB was established to provide independent advice and recommendations to the President and the President's Management Council on a wide range of issues related to the development of effective strategies for the implementation of best business practices to improve Federal Government management and operation.

Agenda: The main purpose for this meeting is for the PMAB to discuss and define areas of work for the PMAB emerging from the new President's Management Agenda. Focal areas are likely to involve recommendations for initiatives designed to improve the effectiveness of federal government operations. The meeting will also cover planning and logistics for PMAB during the coming year.

Meeting Access: The teleconference meeting is open to the public; interested members of the public may listen to the PMAB discussion using 1-888-606-9802 and passcode 9937336. Members of the public will not have the opportunity to ask questions or otherwise participate in the teleconference. However, members of the public wishing to comment should follow the steps detailed in Procedures for Providing Public Comments below.

Availability of Materials for the Meeting: Please see the PMAB Web site (http://www.whitehouse.gov/administration/advisory-boards/pmab) for any materials available in advance of the meeting and for meeting minutes that will be made available after the meeting. Detailed meeting minutes will be posted within 90 days of the meeting.

Procedures for Providing Public Comments: In general, public statements will be posted on the PMAB Web site (http://www.whitehouse.gov/administration/advisory-boards/pmab). Non-electronic documents will be made available for public inspection and copying in PMAB offices at GSA, 1800 F Street NW., Washington, DC 20006, on official business days between the hours of 10 a.m. and 5 p.m. eastern time. You can make an appointment to inspect statements by telephoning 202-501-1398. All statements, including attachments and other supporting materials, received are part of the public record and subject to public disclosure. Any statements submitted in connection with the PMAB meeting will be made available to the public under the provisions of the Federal Advisory Committee Act.

The public is invited to submit written statements for this meeting until 12:30 p.m. eastern time on Wednesday, December 18, 2013, by either of the following methods: Electronic or Paper Statements: Submit electronic statements to Mr. Brockelman, Designated Federal Officer at stephen.brockelman@gsa.gov; or send paper statements in triplicate to Mr. Brockelman at the PMAB GSA address above.

Dated: November 21, 2013.
Anne Rung,
Associate Administrator, Office of Government-wide Policy, General Services Administration.

[FR Doc. 2013-28404 Filed 11-26-13; 8:45 am]

BILLING CODE 6820-BR-P